DEPARTMENT OF ENERGY

Federal Energy Regulatory Commission

Combined Notice of Filings #1

Take notice that the Commission received the following exempt wholesale generator filings:

Docket Numbers: EG24-187-000.

Applicants: Bayou Galion Solar Project, LLC.

Description: Bayou Galion Solar Project, LLC submits Notice of Self-Certification of Exempt Wholesale Generator Status.

Filed Date: 5/23/24.

Accession Number: 20240523-5087.

Comment Date: 5 p.m. ET 6/13/24.

Take notice that the Commission received the following Complaints and Compliance filings in EL Dockets:

Docket Numbers: EL24-110-000.

Applicants: Southwest Power Pool, Inc.

Description: Petition for Declaratory Order of Southwest Power Pool, Inc.

Filed Date: 5/21/24.

Accession Number: 20240521-5247.

Comment Date: 5 p.m. ET 6/20/24.

Take notice that the Commission received the following electric rate filings:

Docket Numbers: ER24-1697-000.

Applicants: AES Westwing II ES, LLC.

Description: Supplement to April 4, 2024 AES Westwing II ES, LLC tariff filing.

Filed Date: 5/17/24.

Accession Number: 20240517-5155.

Comment Date: 5 p.m. ET 5/28/24.

Docket Numbers: ER24-1718-000.

Applicants: Switched On, LLC.

Description: Supplement to 04/08/024, Switched On, LLC tariff filing.

Filed Date: 5/21/24.

Accession Number: 20240521-5242.

Comment Date: 5 p.m. ET 5/31/24.

Docket Numbers: ER24-1769-001.

Applicants: Midcontinent Independent System Operator, Inc..

Description: Tariff amendment: 2024-05-23_SA 4275 NSP-NSP Substitute Original GIA (R1036) to be effective 4/8/2024.

Filed Date: 5/23/24.

Accession Number: 20240523-5113.

Comment Date: 5 p.m. ET 6/13/24.

Docket Numbers: ER24-1780-001.

Applicants: Lake Erie Connector Transmission, LLC.

Description: Lake Erie Connector Transmission, LLC submits an amendment to its 04/12/2024 Request for Order Confirming Negotiated Rate Authority and Waiver of Previously Granted Reporting Requirements.

Filed Date: 5/23/24.

Accession Number: 20240523-5205.

Comment Date: 5 p.m. ET 6/3/24.

Docket Numbers: ER24-2082-000.

Applicants: Tri-State Generation and Transmission Association, Inc.

Description: 205(d) Rate Filing: amendment to Rate Schedule FERC No. 2 to be effective 7/22/2024.

Filed Date: 5/22/24.

Accession Number: 20240522-5226.

Comment Date: 5 p.m. ET 6/12/24.

Docket Numbers: ER24-2083-000.

Applicants: Southwest Power Pool, Inc.

Description: 205(d) Rate Filing: 4261 1000 Mile Solar & SPS Facilities Service Agreement to be effective 7/23/2024.

Filed Date: 5/23/24.

Accession Number: 20240523-5054.

Comment Date: 5 p.m. ET 6/13/24.

Docket Numbers: ER24-2084-000.

Applicants: American Electric Power Service Corporation, PJM Interconnection, L.L.C.

Description: 205(d) Rate Filing: American Electric Power Service Corporation submits tariff filing per 35.13(a)(2)(iii: AEP submits amended and Restated CIAC, SA No. 6679 to be effective 4/29/2024.

Filed Date: 5/23/24.

Accession Number: 20240523-5067.

Comment Date: 5 p.m. ET 6/13/24.

Docket Numbers: ER24-2086-000.

Applicants: Midcontinent Independent System Operator, Inc.

Description: 205(d) Rate Filing: 2024-05-23_SA 4296 NSP-NSP GIA (R1032) to be effective 5/13/2024.

Filed Date: 5/23/24.

Accession Number: 20240523-5090.

Comment Date: 5 p.m. ET 6/13/24.

Docket Numbers: ER24-2087-000.

Applicants: Public Service Company of New Hampshire.

Description: Tariff amendment: Cancel First amend Engineering Design Procurement Agreement NECEC Transmission to be effective 5/23/2024.

Filed Date: 5/23/24.

Accession Number: 20240523-5100.

Comment Date: 5 p.m. ET 6/13/24.

Docket Numbers: ER24-2088-000.

Applicants: RB Inyokern Solar WDAT 1203 LLC.

Description: 205(d) Rate Filing: RB Inyokern Solar WDAT 1203 LLC Co-Tenancy and Shared Facilities Agreement to be effective 8/1/2024.

Filed Date: 5/23/24.

Accession Number: 20240523-5107.

Comment Date: 5 p.m. ET 6/13/24.

Docket Numbers: ER24-2089-000.

Applicants: Alabama Power Company, Georgia Power Company, Mississippi Power Company.

Description: 205(d) Rate Filing: Alabama Power Company submits tariff filing per 35.13(a)(2)(iii: Cooperative Energy NITSA amendment Filing (adding South Diamondhead DP) to be effective 4/22/2024.

Filed Date: 5/23/24.

Accession Number: 20240523-5132.

Comment Date: 5 p.m. ET 6/13/24.

Docket Numbers: ER24-2090-000.

Applicants: RB Inyokern Solar WDAT 1281 LLC.

Description: 205(d) Rate Filing: RB Inyokern Solar WDAT 1281 LLC Co-Tenancy and Shared Facilities Agreement to be effective 8/1/2024.

Filed Date: 5/23/24.

Accession Number: 20240523-5143.

Comment Date: 5 p.m. ET 6/13/24.

Docket Numbers: ER24-2091-000.

Applicants: Paxton BESS 1 LLC.

Description: Baseline eTariff Filing: Paxton BESS 1 LLC MBR Tariff to be effective 7/23/2024.

Filed Date: 5/23/24.

Accession Number: 20240523-5156.

Comment Date: 5 p.m. ET 6/13/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 23, 2024.
Debbie-Anne A. Reese,
Acting Secretary.

[FR Doc. 2024-11889 Filed 5-30-24; 8:45 a.m.]

BILLING CODE 6717-01-P